DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Association of American Railroads

[Waiver Petition Docket Number FRA-2009-0102]

The Association of American Railroads (AAR) has petitioned, on behalf of its member railroads, for a temporary waiver of compliance from the requirements of 49 CFR 232.109(g)(2), which state that locomotives placed into service for the first time on or after October 1, 2007, shall display in real-time in the cab of the controlling (lead) locomotive the total train dynamic brake retarding force available in the train. AAR petition seeks relief due to conflicts found in the common communication channel, known as “C-Band” shared by the dynamic brake system reporting (DBSR) and Electronic Controlled Pneumatic (ECP) brake systems. AAR requests this relief until January 1, 2011, to allow it the time to have conversion modules manufactured and installed on its members' locomotives.

AAR states that when locomotives equipped with ECP brakes were placed in service, it was discovered that operation of the ECP systems and DBSR conflicted due to the sharing of a common communications band, the C-Band. Consequently, AAR developed a standard (S-5509) in February 2008, providing for using the A-Band for DBSR. During the period of modification and conversion of its members' locomotives, there will be times when the total train dynamic brake retarding force required by 49 CFR 232.109(g)(2) cannot be displayed in the controlling locomotive because some locomotives will be equipped to transmit on A-Band and some on C-Band. AAR further states that during the period of conversion, the engineer shall be provided with a record of dynamic brake operational status as required by 49 CFR 232.109(a).

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0102) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC on November 23, 2009.
Grady C. Cothen, Jr.,
Deputy Associate Administrator for Safety Standards and Program Development.

[FR Doc. E9-28482 Filed 11-27-09; 8:45 am]

BILLING CODE 4910-06-P